ENVIRONMENTAL PROTECTION AGENCY

[FRL-7828-7]

Public Water System Supervision Program Revisions for the State of Wisconsin

AGENCY: Environmental Protection Agency (EPA).

ACTION: Notice of tentative approval.

SUMMARY: Notice is hereby given that the State of Wisconsin is revising its approved Public Water System Supervision Program. Wisconsin has: Revised its definition of “public water system'; revised its administrative penalty authority for public water systems; adopted the Consumer Confidence Report Rule for all community water systems; adopted the Interim Enhanced Surface Water Treatment Rule, which will help improve control of microbial pathogens in drinking water; and adopted the Stage 1 Disinfectants and Disinfection Byproducts Rule, which will set new requirements to limit the formation of chemical disinfection byproducts in drinking water.

EPA has determined that these revisions are no less stringent than the corresponding federal regulations. Therefore, EPA intends to approve these program revisions.

All interested parties may request a public hearing. A request for a public hearing must be submitted by November 17, 2004, to the Acting Regional Administrator at the EPA Region 5 address shown below. Frivolous or insubstantial requests for a hearing may be denied by the Acting Regional Administrator. However, if a substantial request for a public hearing is made by November 17, 2004, a public hearing will be held.

If no timely and appropriate request for a hearing is received and the Acting Regional Administrator does not elect to hold a hearing on his own motion, this determination shall become final and effective on November 17, 2004. Any request for a public hearing shall include the following information:

The name, address, and telephone number of the individual, organization, or other entity requesting a hearing; a brief statement of the requesting person's interest in the Acting Regional Administrator's determination and a brief statement of the information that the requesting person intends to submit at such hearing; and the signature of the individual making the request, or, if the request is made on behalf of an organization or other entity, the signature of a responsible official of the organization or other entity.

ADDRESSES: All documents relating to this determination are available for inspection between the hours of 7:45 a.m. and 4:30 p.m., Monday through Friday, at the following offices: Wisconsin Department of Natural Resources, DG-2, 2nd Floor, 101 South Webster, P.O. Box 7921, Madison, Wisconsin 53707, and the United States Environmental Protection Agency, Region 5, Ground Water and Drinking Water Branch (WG-15J), 77 West Jackson Boulevard, Chicago, Illinois 60604.

FOR FURTHER INFORMATION CONTACT: Joe Janczy, EPA Region 5, Ground Water and Drinking Water Branch, at the address given above, by telephone at (608) 267-2763, or at janczy.joseph@epa.gov.

Authority: (Sec. 1413 of the Safe Drinking Water Act, as amended, 42 U.S.C. 3006-2 (1996), and 40 CFR part 142 of the National Primary Drinking Water Regulations).

Dated: September 30, 2004.
Bharat Mathur,
Acting Regional Administrator, Region 5.

[FR Doc. 04-23266 Filed 10-15-04; 8:45 am]

BILLING CODE 6560-50-P